DEPARTMENT OF STATE

[Public Notice 7938]

30-Day Notice of Proposed Information Collection: DS-5513, Supplemental Questionnaire To Determine Entitlement for a U.S. Passport, 1405-XXXX

ACTION: Notice of request for public comment and submission to OMB of proposed collection of information.

SUMMARY: The Department of State has submitted the following information collection request to the Office of Management and Budget (OMB) for approval in accordance with the Paperwork Reduction Act of 1995.

• Title of Information Collection: Supplemental Questionnaire to Determine Entitlement for a U.S. Passport

• OMB Control Number: None

• Type of Request: Existing Collection in Use Without an OMB Control Number

• Originating Office: Bureau of Consular Affairs, Passport Services, Office of Project Management and Operational Support, Program Coordination (CA/PPT/PMO/PC)

• Form Number: DS-5513

• Respondents: Individuals applying for a U.S. passport

• Estimated Number of Respondents: 5,010

• Estimated Number of Responses: 5,010

• Average Hours per Response: 85 Minutes

• Total Estimated Burden: 7,098 hours

• Frequency: On occasion

• Obligation to Respond: Required to Obtain a Benefit

DATES: Submit comments to the Office of Management and Budget (OMB) for up to 30 days from July 2, 2012.

ADDRESSES: U.S. Department of State, Bureau of Consular Affairs, Passport Services, Office of Program Management and Operational Support, 2201 C Street NW., Washington, DC 20037.

Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from PPT Forms Officer, U.S. Department of State, 2100 Pennsylvania Ave. NW., Room 3031, Washington, DC 20037, who may be reached on 202-663-2457 or at PPTFormsOfficer@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The primary purpose for soliciting this information is to establish entitlement for a U.S. Passport Book or Passport Card. The information may also be used in connection with issuing other travel documents or evidence of citizenship, and in furtherance of the Secretary's responsibility for the protection of U.S. nationals abroad.

Methodology

The Supplemental Questionnaire to Determine Entitlement for a U.S. Passport is used to supplement an existing passport application and solicits information relating to the respondent's family and birth circumstances that is needed prior to passport issuance.

Additional Information

The DS-5513 is questionnaire is designed to help determine the entitlement of passport applicants. The DS-5513 is not designed to replace the DS-11, Application for a U.S. Passport, but rather to supplement the application when the applicant initially submits evidence that is insufficient to meet his/her burden of proving entitlement. The Department estimates that such supplemental information will only be requested for a small number of applicants, estimated to be less than 0.5% of applications received annually. For information on what documentation is required when submitting a DS-11, please refer to page two of the instructions.

The DS-5513 is largely based on the original Biographical Questionnaire for a U.S. Passport, posted on the Federal Register for public comment on February 24, 2011 (page 10421) and closed April 25, 2011.

Comments received from the original Federal Register posting were considered, and several suggestions were incorporated into the current version of the forms. The Department split the form into two shorter forms: the DS-5520 for identity questions and the DS-5513 for entitlement. Both revised forms assure applicants that failure to answer every question will not necessarily preclude passport issuance, as the responses to the questions in the forms are considered in their entirety.

In response to comments regarding burden and privacy concerns, the proposed forms amend many of the questions to more accurately obtain the information the Department is seeking. For example, on the DS-5513, the questions concentrate around the time of the applicant's birth and there are no longer any questions seeking information about periods of time beyond the applicant's 18th birthday.

The Department also received comments that expressed concern over the ability of an applicant who is adopted or elderly to answer the DS-5513's questions on birth circumstances. The form asks a wide range of questions related to the circumstances and facts surrounding an applicant's birth in order to accommodate the various situations in which Americans are born, whether hospital, home birth, non-institutional birth, etc. The Department realizes that most information an applicant supplies for this questionnaire surrounding his/her birth and early life will likely come from other sources and takes this into account during the adjudication process. In addition, many of these questions may not apply to some applicants; however, in those instances where the questions are relevant, the supplemental form gives the applicant an opportunity to provide additional information that may support passport issuance.

Dated: May 9, 2012.
Barry J. Conway,
Acting Deputy Assistant Secretary for Passport Services, Bureau of Consular Affairs, Department of State.

[FR Doc. 2012-16142 Filed 6-29-12; 8:45 am]

BILLING CODE 4710-06-P